Title 3—

The President

Proclamation 9767 of July 13, 2018

Captive Nations Week, 2018

By the President of the United States of America

A Proclamation

Two hundred and forty-two years ago, America was founded on the fundamental principle that all men and women are created equal and share an inherent dignity that government must value, respect, and protect. The founding of our great country lit a spark of freedom that spread around the world, unleashing human potential and lifting billions out of poverty. Today, we continue this sacred legacy. We hold in common the responsibility to strengthen the bonds of liberty for future generations to inherit and carry forward.

At the same time, we recognize that many around the world continue to live under the dark shadow of oppression and despotism. During Captive Nations Week, we remember that the rights and privileges we enjoy in the United States are not held by all. We stand in solidarity with those who continue to suffer under governments that stifle basic freedoms and deny the opportunity to build a better life.

President Dwight D. Eisenhower proclaimed the first Captive Nations Week in 1959 during the height of the Cold War. At that time, the United States was locked in an enduring struggle to preserve and advance freedom for nations held captive by totalitarian communist regimes in Eastern Europe, Asia, and elsewhere. These regimes dismissed the very idea of individual rights. Then, as it does today, the United States blazed as a beacon of hope for the oppressed, for lovers of freedom and justice, and for those who strive for the rule of law.

When the citizens of East Germany tore down the Berlin Wall in 1989, it was a defining moment for freedom. But much work remains unfinished. In many countries today, people remain subject to unjust arrest, detention, and execution. Individual rights, such as freedom of expression, freedom of association, and freedom to assemble, which are necessary to hold governments accountable, are significantly circumvented or denied entirely. The United States stands with the repressed and continues to encourage despotic regimes to turn away from authoritarianism and respect the God-given rights of life and liberty.

As we observe Captive Nations Week, let us recall the words of President Ronald Reagan, declared on this occasion in 1983: “Free people, if they are to remain free, must defend the liberty of others.” Let us today resolve to continue the work of those who came before: to ensure that America remains the world's brightest example of liberty; to do justice; to respect the rule of law; and to never, ever give up on liberty.

The Congress, by Joint Resolution approved July 17, 1959 (73 Stat. 212), has authorized and requested the President to issue a proclamation designating the third week of July of each year as “Captive Nations Week.”

NOW, THERFORE, I, DONALD J. TRUMP, President of the United States of America, by virtue of the authority vested in me by the Constitution and the laws of the United States, do hereby proclaim July 15 through July 21, 2018, as Captive Nations Week. I call upon all Americans to reaffirm our commitment to those around the world striving for liberty, justice, and the rule of law.

IN WITNESS WHEREOF, I have hereunto set my hand this thirteenth day of July, in the year of our Lord two thousand eighteen, and of the Independence of the United States of America the two hundred and forty-third.

[FR Doc. 2018-15509

Filed 7-17-18; 11:15 am]

Billing code 3295-F8-P